NATIONAL SCIENCE FOUNDATION

Advisory Panel for Integrative; Notice of Meeting; Committee of Visitors Panel for the Experimental Program to Stimulate Competitive Research (EPSCoR): Notice of Meeting

In accordance with the Federal Advisory Committee Act (Pub. L. 92-463, as amended), the National Science Foundation announces the following meeting:

Name: Committee of Visitors Panel for the Experimental Program to Stimulate Competitive Research (EPSCoR) #1373.

Date and Time: August 11, 2009, 8 a.m.-5 p.m.

August 12, 2009, 8 a.m.-5 p.m.

Place: National Science Foundation 4201 Wilson Blvd., Room 320, Arlington, VA 22230.

Type of Meeting: Partially open.

Public Sessions:

August 11, 2009, 8 a.m.-10 a.m. General introductions and instructions.

August 12, 2009, 4 p.m.—5 p.m. Presentation of COV findings including outcomes under the Government Performance and Results Act (GPRA).

Closed Sessions: All sessions not stated above.

Contact Person: Simona Gilbert, Administrative Manager, Experimental Program to Stimulate Competitive Research (EPSCoR), Office of Integrative Activities, National Science Foundation, 4201 Wilson Boulevard, Arlington, VA 22230. Telephone: (703) 292-8683.

Purpose of Meeting: To carry out Committee of Visitors (COV) review, including examination of decisions on proposals, reviewer comments, and other privileged materials.

Agenda: To review and evaluate the Experimental Program to Stimulate Competitive Research (EPSCoR) Program and provide assessment of program level technical and managerial matters pertaining to proposal decisions and program operations.

Reason for Closing: Certain sessions of the meeting are closed to the public because the Committee is reviewing proposal actions that will include privileged intellectual property and personal information that could harm individuals if they are disclosed. If discussions were open to the public, these matters that are exempt under 5 U.S.C. 552b(c);, (4) and (6) of the Government in the Sunshine Act would be improperly disclosed.

Susanne Bolton,
Committee Management Officer.

[FR Doc. E9-13843 Filed 6-11-09; 8:45 am]

BILLING CODE 7555-01-P